NEIGHBORHOOD REINVESTMENT CORPORATION

Sunshine Act Meetings; Regular Board of Directors Meeting

TIME AND DATE: 2:00 p.m., Thursday, December 17, 2020.

PLACE: Via Conference Call.

STATUS: Open (with the exception of Executive Session).

MATTERS TO BE CONSIDERED: The General Counsel of the Corporation has certified that in his opinion, one or more of the exemptions set forth in 5 U.S.C. 552 (b)(2) and (4) permit closure of the following portion(s) of this meeting:

• Executive Session

Agenda:

I. CALL TO ORDER

II. Executive Session: Report from CEO

III. Executive Session: Report of CFO

IV. Action Item Approval of Minutes

V. Action Item Acceptance of Revised Audit Committee Charter

VI. Discussion Item NeighborWorks Compass Update

VII. Management Program Background and Updates

VIII. Adjournment

CONTACT PERSON FOR MORE INFORMATION: Lakeyia Thompson, Special Assistant, (202) 524-9940; Lthompson@nw.org.

Lakeyia Thompson,
Special Assistant.

[FR Doc. 2020-27186 Filed 12-7-20; 4:15 pm]

BILLING CODE 7570-01-P